DEPARTMENT OF TRANSPORTATION

Federal Highway Administration

Environmental Impact Statement: Rensselaer County, NY

AGENCY: Federal Highway Administration (FHWA), DOT.

ACTION: Notice of intent.

SUMMARY: The FHWA is issuing this notice to advise the public that an environmental impact statement will be prepared for a proposed highway project in Rensselaer County, New York.

FOR FURTHER INFORMATION CONTACT:

Thomas C. Werner, Regional Director, New York State Department of Transportation, Region One, 84 Holland Avenue, Albany, New York 12208, Telephone: (518) 474-6178.

or

A. Graham Bailey, Acting Division Administrator, Federal Highway Administration, New York Division, Leo W. O'Brien Federal Building, 7th Floor, Clinton Avenue and North Pearl Street, Albany, New York 12207, Telephone: (518) 431-4127.

SUPPLEMENTARY INFORMATION: The FHWA in cooperation with the New York State Department of Transportation (NYSDOT), will be preparing an Environmental Impact Statement (EIS) in accordance with the National Environmental Policy Act (NEPA) on a proposal to provide a new connector road to Interstate 90 (I-90), in Rensselaer County, New York. The proposed improvement would involve the construction of a new limited access highway that extends from the terminus of the existing Interstate 90 Exit 8 at Route 43 northerly on an alignment about ½ mile west of Route 4 and curving northeasterly to an intersection with Route 4 in the vicinity of the Hudson Valley Community College (HVCC), a distance of 5.1 km (3 miles). Improvements to the corridor are considered necessary to provide for the projected traffic demand. Project objectives include reducing forecast congestion and promoting economic development along the Route 4 corridor, supporting the land use goals and master plans of local communities, and improving mobility for pedestrians, bicyclists, and transit users. The project also seeks to establish an Intelligent Transportation System (ITS) “in situ laboratory facility” on the new roadway and segments of the other existing area roadways.

Alternatives under consideration include: (1) providing a new limited access highway from the terminus of the existing Interstate 90 Exit 8 northerly to terminate at Route 136 (Williams Road); (2) providing a new limited access highway from the terminus of the existing Interstate 90 Exit 8 northerly to the vicinity of the Hudson Valley Community College (HVCC). Incorporated into and studied with the alternatives will be design variations of grade and alignment and intersection modifications.

Letters describing the proposed action and soliciting comments will be sent to appropriate Federal, State, and local agencies, and to private organizations and citizens who have previously expressed interest in this proposal. Also planned are early coordination and exchanges of information meetings, direct requests to other agencies to become cooperating agencies, and early notification and solicitation with entities affected by the proposed action through the clearinghouse process. A series of public information meetings and public hearings will be held between January and December, 2001. Public notice will be given of the time and place of the meetings and hearings. The draft EIS will be available for public and agency review and comment. No formal scoping meeting is planned at this time.

To ensure that the full range of issues related to this proposed action are addressed and all significant issues identified, comments and suggestions are invited from all interested parties. Comments or questions concerning this proposed action and the EIS should be directed to the NYSDOT or FHWA at the addresses provided above.

(Catalog of Federal Domestic Assistance Program Number 20.205, Highway Research, Planning and Construction. The regulations implementing Executive Order 12372 regarding intergovernmental consultation Federal Programs and activities apply to this program.)

Authority: 23 U.S.C. 315; U.S.C. 771.123.

Issued on: December 18, 2000.
Douglas P. Conlan,
District Engineer, Federal Highway Administration, Albany, New York.

[FR Doc. 01-291 Filed 1-4-01; 8:45 am]

BILLING CODE 4910-22-M